ENVIRONMENTAL PROTECTION AGENCY

[EPA-HQ-OECA-2014-0096; FRL-9984-04-OEI]

Information Collection Request Submitted to OMB for Review and Approval; Comment Request; NESHAP for Iron and Steel Foundries Area Sources (Renewal)

AGENCY: Environmental Protection Agency (EPA).

ACTION: Notice.

SUMMARY: The Environmental Protection Agency (EPA) has submitted an information collection request (ICR), NESHAP for Iron and Steel Foundries Area Sources (EPA ICR Number 2267.05, OMB Control number 2060-0605), to the Office of Management and Budget (OMB) for review and approval in accordance with the Paperwork Reduction Act. This is a proposed extension of the ICR, which is currently approved through November 30, 2018. Public comments were previously requested via the Federal Register on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 30, 2018.

ADDRESSES: Submit your comments, referencing Docket ID Number EPA-HQ-OECA-2014-0096 to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed either online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Iron and Steel Foundries Area Sources (40 CFR part 63, subpart ZZZZZ) apply to both new and existing iron and/or steel foundries that are an area source of hazardous air pollutants (HAP) emissions. There are different requirements for foundries based on size. Existing foundries with an annual metal melt production greater that 20,000 tons and new foundries with an annual melt capacity of 10,000 tons are classified as large foundries. Existing foundries with an annual metal melt capacity of 10,000 tons or less are classified as small foundries. Research and development facilities are not covered by the rule. New facilities include those that commenced construction, modification or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart ZZZZZ.

Form Numbers: None.

Respondents/affected entities: Iron and steel foundries.

Respondent's obligation to respond: Mandatory (40 CFR part 63, subpart ZZZZZ).

Estimated number of respondents: 392 (total).

Frequency of response: Initially, occasionally, quarterly, semiannually, and annually.

Total estimated burden: 9,140 hours (per year). Burden is defined at 5 CFR 1320.3(b).

Total estimated cost: $1,000,000 (rounded) (per year). No annualized capital and/or operation & maintenance costs are included.

Changes in the estimates: There is an adjustment increase in the total estimated respondent burden compared with the ICR currently approved by OMB. While the overall number of respondents has decreased from 427 to 392 since the previous ICR renewal to account for shutdown facilities, this renewal includes a burden estimate for each existing respondent to familiarize themselves with regulatory requirements each year. As a result, there is a net increase in the burden hours as compared to the previous ICR renewal.

Courtney Kerwin,
Director, Regulatory Support Division.

[FR Doc. 2018-23757 Filed 10-30-18; 8:45 am]

BILLING CODE 6560-50-P